DEPARTMENT OF THE INTERIOR

Geological Survey

Request for Public Comments on Extension of Existing Information Collection to be Submitted to OMB for Review Under the Paperwork Reduction Act

The U.S. Geological Survey (USGS) received emergency approval from the Office of Management and Budget (OMB) for an information collection in use without an OMB approval number. A request extending the information collection described below will be submitted to OMB for approval under the provisions of the Paperwork Reduction Act (44 U.S.C. chapter 35). Copies of the proposed collection of information and related forms may be obtained by contacting the USGS Clearance Officer at the phone number listed below. Comments on the proposal should be made within 60 days to the Bureau Clearance Officer, U.S. Geological Survey, 807 National Center, Reston, VA 20192.

As required by OMB regulations at 5 CFR 1320.8(d)(1), the USGS solicits specific public comments as to:

1. Whether the collection of information is necessary for the proper performance of the functions on the bureaus, including whether the information will have practical utility;

2. The accuracy of the bureau's estimate of the burden of the collection of information, including the validity of the methodology and assumptions used;

3. The quality, utility, and clarity of the information to be collected and;

4. How to minimize the burden of the collection of information on those who are to respond, including the use of appropriate automated, electronic, mechanical, or other forms of information technology.

Title: Bird Banding.

OMB Approval No.: 1028-0082.

Summary: In accordance with the Migratory Bird Treaty Act, 16 U.S.C. 703-712, the trapping and marking of wild migratory birds by persons holding Federal permits must be monitored. Formerly managed by the U.S. Fish and Wildlife Service, the bird banding program is now the responsibility of the USGS Bird Banding Laboratory (BBL). This bird banding monitoring program involves information collections on three forms: (1) The Application for Federal Bird Marking and Salvage Permit; (2) The Bird Banding Recovery Report; and (3) The Bird Banding Schedule. The information on the Recovery Report may also be submitted electronically at the BBL Web site or via a toll-free telephone number. This program also assists the Fish and Wildlife Service in fulfillment of its responsibilities designated by International Migratory Bird Treaties with Canada, Mexico, Japan, and the Soviet Union.

Estimated Completion Time: 30 minutes for Permit Application form; 3 minutes for Recovery Report form; and 12 minutes for Banding Schedule form.

Estimated Annual Number of Responses: 131,550.

Estimated Annual Burden Hours: 13,725 hours.

FOR FURTHER INFORMATION CONTACT: To obtain copies of the forms, contact the Bureau clearance officer, U.S. Geological Survey, 807 National Center, 12201 Sunrise Valley Drive, Reston, VA 20192 (703-648-7313); or USGS Bird Banding Laboratory, Patuxent Wildlife Research Center, 12100, Beech Forest Road, Laurel, MD 20708-4037.

Dated: November 30, 2005.
Susan D. Haseltine,
Associate Director for Biology.

[FR Doc. 05-23741 Filed 12-7-05; 8:45 am]

BILLING CODE 4311-AM-M